POSTAL RATE COMMISSION

Commission Briefing

AGENCY: Postal Rate Commission.

ACTION: Notice of Commission briefing.

SUMMARY: United Parcel Service (UPS) representatives will brief the Commission on a petition UPS has filed with the Department of Transportation (DOT). The petition seeks review of a DOT staff action granting a foreign forwarding license to DHL Worldwide Express.

DATES: March 1, 2001 at 10 a.m.

ADDRESSES: The briefing will be held in the Postal Rate Commission's main conference room, 1333 H St. NW., Suite 300, Washington, DC 20268.

FOR FURTHER INFORMATION CONTACT: Stephen L. Sharfman, General Counsel, 202-789-6820.

Dated: February 22, 2001.
Margaret P. Crenshaw,
Secretary.

[FR Doc. 01-4768 Filed 2-26-01; 8:45 am]

BILLING CODE 7710-FW-M